CORPORATION FOR NATIONAL AND COMMUNITY SERVICE

Agency Information Collection Activities; Submission to the Office of Management and Budget for Review and Approval; Proposed Information Collection; Comment Request; Application Package for NCCC Impact Evaluation

AGENCY: Corporation for National and Community Service.

ACTION: Notice of information collection; request for comment.

SUMMARY: In accordance with the Paperwork Reduction Act of 1995, the Corporation for National and Community Service, operating as AmeriCorps, is proposing a renewal to expand the scope of the existing public information collection request (ICR) entitled NCCC Impact Evaluation to include COVID-19 vaccine distribution and related activities case studies.

DATES: Written comments must be submitted to the individual and office listed in the ADDRESSES section by January 3, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling Dr. Melissa Gouge, at 202-606-6736 or by email to mgouge@cns.gov.

SUPPLEMENTARY INFORMATION: The OMB is particularly interested in comments which:

• Evaluate whether the proposed collection of information is necessary for the proper performance of the functions of AmeriCorps, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on September 4, 2021 at Vol. 86, No. 168, 49319. This comment period ended November 3. We received no public comment from this Notice.

Title of Collection: NCCC Impact Evaluation.

OMB Control Number: 3045-0189.

Type of Review: Renewal.

Respondents/Affected Public: Current and former AmeriCorps NCCC members, team leads, and project sponsors conducting COVID-19 vaccine distribution and related activities projects.

Total Estimated Number of Additional Responses: 210.

Total Estimated Number of Additional Burden Hours: 305 hours.

Abstract: NCCC program members have been a crucial part of AmeriCorps COVID-19 pandemic response as personnel on vaccine distribution mission assignments alongside FEMA and other agencies. No one could have anticipated the COVID-19 pandemic, but we have seized an opportunity to develop questions that build on the existing study but are specific to these ongoing activities.

These activities are an essential element of our agency's COVID-19 pandemic response—one that is also essential to our mission to improve lives and strengthen communities. To further our mission in a time of increasing uncertainty, we aim to collect information on current activity that must be measured now in order to assess, identify, and make any identified programmatic changes. Peak performance of these projects is crucial to our agency's COVID-19 pandemic response and public safety writ large.

COVID-19 vaccine delivery is of increasing importance as COVID-19 pandemic continues an unpredictable course. In time, we hope, the pandemic will subside, but it is crucial we analyze these mission assignments now to make improvements that will literally save lives. How will this save lives? Currently, just over 59% of Americans are fully vaccinated against the virus (Source: CDC.gov, accessed 11/29/2021). AmeriCorps NCCC members are increasing access to vaccines and related activities through their service. Vaccines have proven to decrease severity and fatalities from the COVID-19 virus. Programmatic improvements instituted “in real time” to enhance their efforts will lead to even greater access and a healthier public.

Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. All written comments will be available for public inspection on regulations.gov.

Dated: November 29, 2021.
Mary Hyde,
Director, Office of Research and Evaluation.

[FR Doc. 2021-26232 Filed 12-2-21; 8:45 am]

BILLING CODE 6050-28-P